DEPARTMENT OF HOMELAND SECURITY

Agency Information Collection Activities: Science and Technology Collection of Qualitative Feedback; Correction

AGENCY: Science and Technology Directorate (S&T), DHS.

ACTION: 30-Day notice and request for comments; correction.

SUMMARY: The Department of Homeland Security, S&T, DHS is correcting a notice published in the Federal Register on July 08, 2024, regarding the Generic Information Collection: Science and Technology Collection of Qualitative Feedback. will submit the following information collection request (ICR) to the Office of Management and Budget (OMB) for review and clearance in accordance with the Paperwork Reduction Act of 1995. The notice listed incorrect dates for the publication of the 60-day notice, the 60-day public comment period. ONE comment was received by DHS. The purpose of this notice is to allow additional 30-days for public comments.

DATES: Comments are encouraged and will be accepted until September 23, 2024. This process is conducted in accordance with 5 CFR 1320.10.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: DHS/S&T/OES/CIO/Business Management Office: Heather Erhuanga, heather.erhuanga@hq.dhs.gov, 202-254-6496 (Office).

SUPPLEMENTARY INFORMATION: This notice allows an additional 30 days for public comment on the notice that published July 8, 2024 at 89 FR 55963. This notice relies on the authority of the Paperwork Reduction Act of 1995; 44 U.S.C. 3501 et seq., chapter 35, as amended. An ICR is an application to OIRA seeking the approval, extension, or renewal of a S&T collection of information (Collection). The ICR contains information describing the Collection's purpose, the Collection's likely burden on the affected public, an explanation of the necessity of the Collection, and other important information describing the Collection. There is one ICR for each Collection.

S&T invites comments on whether this ICR should be granted based on the Collection being necessary for the proper performance of Departmental functions. In particular, S&T would appreciate comments addressing: (1) The practical utility of the Collection; (2) the accuracy of the estimated burden of the Collection; (3) ways to enhance the quality, utility, and clarity of information subject to the Collection; and (4) ways to minimize the burden of the Collection on respondents, including the use of automated collection techniques or other forms of information technology. Burden means the total time, effort, or financial resources expended by persons to generate, maintain, retain, disclose or provide information to or for a Federal agency.

Analysis

Agency: DHS/Science and Technology.

Title: Science and Technology Collection of Qualitative Feedback.

OMB Number: 1640-0018.

Frequency: Once.

Affected Public: Individuals.

Number of Respondents: An estimated 400,000 respondents will take the survey.

Estimated Time per Respondent: 30 minutes.

Total Burden Hours: 200,000 hours.

Total Burden Cost (capital/startup): there is no cost to participants other than their time.

Total Burden Cost (operating/maintaining): there is no cost to participants other than their time.

Dated: August 7, 2024.
Jon J Robinson,
Deputy Chief Information Officer, Science and Technology Directorate, Department of Homeland Security.

[FR Doc. 2024-17932 Filed 8-21-24; 8:45 am]

BILLING CODE 9110-9F-P